OFFICE OF PERSONNEL MANAGEMENT

Notice of Federal Long Term Care Insurance Program (FLTCIP)—Suspension of Applications for FLTCIP Coverage; Correction

AGENCY: Office of Personnel Management.

ACTION: Notice; correction.

SUMMARY: On November 18, 2022, the U.S. Office of Personnel Management (OPM) published a document in the Federal Register announcing a suspension of applications for Federal Long Term Care Insurance Program (FLTCIP) coverage. The document did not contain the citation to the final rule, which sets forth the process for suspension of applications.

FOR FURTHER INFORMATION CONTACT: You may call 1-800-LTC-FEDS (1-800-582-3337) (TTY: 1-800-843- 3557) or visit https://www.ltcfeds.com. For purposes of this Federal Register notice only, the contact at OPM is Dyan Dyttmer, Senior Policy Analyst, at dyan.dyttmer@opm.gov or (202) 936-0152.

SUPPLEMENTARY INFORMATION:

Correction

In the Federal Register of November 18, 2022, in FR Doc. 2022-24882, on page 69346, in the first column, correct the last sentence of the SUPPLEMENTARY INFORMATION section to read:

OPM has issued regulations at 87 FR 68595 setting forth the process for suspension of applications in 5 CFR 875.110.

Office of Personnel Management.
Kellie Cosgrove Riley,
Executive Director, Office of Executive Secretariat and Privacy and Information Management.

[FR Doc. 2022-25659 Filed 11-28-22; 8:45 am]

BILLING CODE 6325-63-P